DEPARTMENT OF TRANSPORTATION

Coast Guard

33 CFR Part 117

[CGD01-01-125]

Drawbridge Operation Regulations: Piscataqua River, ME

AGENCY: Coast Guard, DOT.

ACTION: Notice of temporary deviation from regulations.

SUMMARY: The Commander, First Coast Guard District, has issued a temporary deviation from the drawbridge operation regulations for the Sara Long (Route 1 Bypass) Bridge, mile 4.0, across the Piscataqua River between Kittery, Maine and Portsmouth, New Hampshire. This deviation from the regulations, effective on September 20, 2001, allows the bridge to need not open for vessel traffic between 8 a.m. and 6 p.m. This temporary deviation is necessary to facilitate necessary repairs at the bridge.

DATES: This deviation is effective on September 20, 2001.

FOR FURTHER INFORMATION CONTACT: John McDonald, Project Officer, First Coast Guard District, at (617) 223-8364.

SUPPLEMENTARY INFORMATION: The Sara Long (Route 1 Bypass) Bridge, mile 4.0, across the Piscataqua River has a vertical clearance in the closed position of 10 feet at mean high water and 18 feet at mean low water. The existing drawbridge operating regulations are listed at 33 CFR 117.531.

The bridge owner, New Hampshire Department of Transportation (NHDOT), requested a temporary deviation from the drawbridge operating regulations to facilitate modifications to the new generator system at the bridge.

This deviation to the operating regulations, effective on September 20, 2001, allows the Sara Long (Route 1 Bypass) Bridge to need not open for vessel traffic between 8 a.m. and 6 p.m.

This deviation from the operating regulations is authorized under 33 CFR 117.35, and will be performed with all due speed in order to return the bridge to normal operation as soon as possible.

Dated: August 6, 2001.
G.N. Naccara,
Rear Admiral, U.S. Coast Guard, Commander, First Coast Guard District.

[FR Doc. 01-20316 Filed 8-13-01; 8:45 am]

BILLING CODE 4910-15-P